DEPARTMENT OF DEFENSE

Department of the Army; Corps of Engineers

Dredged Material Management Plan for the Lower Atchafalaya, Bayous Chene, Boeuf, and Black Navigation Channel, and the Gulf of Mexico, in Assumption, St. Mary, and Terrebone Parishes in the Vicinity of Morgan City, LA

AGENCY: Department of the Army, U.S. Army Corps of Engineers, DoD.

ACTION: Notice of intent.

SUMMARY: The Vicksburg District Corps of Engineers is preparing the Dredged Material Management Plan (DMMP) for the existing Atchafalaya River and Bayous Chene, Boeuf, and Black, Louisiana, navigation project. The DMMP will require a Supplemental Environmental Impact Statement (SEIS) No. 3 to the Final Environmental Impact Statement (FEIS) for the Atchafalaya River and Bayous Chene, Boeuf, and Black, Louisiana (March 1973), navigation project. The project was authorized by the River and Harbor Act of 1968 in accordance with House Document 155, 90th Congress, 1st Session. The purpose of the DMMP is to develop a long term management strategy to accomplish the placement of dredged material associated with the navigation project in the least costly manner, that is consistent with sound engineering practice, and that meets all applicable Federal environmental laws. The Atchafalaya River and Bayous Chene, Boeuf, and Black, Louisiana, navigation project requires, at a minimum, yearly channel maintenance. Existing disposal sites are at their design capacity and new disposal areas are required. The SEIS objective is to document the potential impacts at newly designated disposal sites (adverse and beneficial) related to maintaining the navigation channel for the next twenty years. The dredged material would be used for beneficial purposes to extent practicable (barrier island and coastal wetlands restoration). A public scoping meeting will be held on November 17, 2005, at the City Auditorium, 728 Myrtle Street, Morgan City, Louisiana, from 7 p.m. to 9 p.m.

DATES: Public Scoping Meeting, November 17, 2005.

ADDRESSES: Correspondence may be sent to Mr. Larry Marcy at U.S. Army Corps of Engineers, Vicksburg District, CEMVK-PP-PQ, 4155 Clay Street, Vicksburg, MS 39180-3435.

FOR FURTHER INFORMATION CONTACT: Mr. Larry Marcy at phone (601) 631-5965, fax number (601) 631-5155, or e-mail at larry.e.marcy@MVK02.uasce.army.mil.

SUPPLEMENTARY INFORMATION: Proposed Action. The proposed action includes environmental impact assessment related to maintenance dredging of the existing Lower Atchafalaya River, Bayous Chene, Boeuf, and Black navigation channels to a depth of 24 feet (four feet over dredging required to maintain a 20-foot deep channel). The dredged material from channel maintenance would be used in the most environmentally sound and cost-effective manner to restore coastal wetlands and barrier islands, maximizing the beneficial use of dredged material as a resource.

Alternatives. alternative disposal sites could be identified, evaluated, and selected in cooperation with state and Federal agencies, local government, and the public.

Scoping. Scoping is the process for determining the range of the alternatives and significant issues to be addressed in the SEIS. For this analysis, a letter will be sent to all parties believed to have an interest in the analysis, requesting their input on alternatives and issues to be evaluated. The letter will also notify interested parties of the public scoping meeting that will be held in the local area. A notice will be sent to the local new media. All interested parties are invited to comment at this time, and anyone interested in this study should request to be included on the mailing list.

Significant Issues. The tentative list of resources and issues to be evaluated in the DMMP SEIS includes tidal wetlands (marshes and swamps), aquatic resources, commercial and recreational fisheries, wildlife resources, essential fish habitat, water quality, air quality, threatened and endangered species, recreation resources, and cultural resources. Tentative socio economic items to be evaluated in the SEIS include navigation, business and industrial activity and service, tax revenues, population, community and regional growth, transportation, housing, community cohesion, and noise.

Environmental Consultation and Review. The U.S. Fish and Wildlife Service (USFWS) will be assisting in the documentation of existing conditions and assessment of effects of dredged material disposal at the various alternative disposal sites through Fish and Wildlife Coordination Act consultation procedures. The USFWS will provide a Fish and Wildlife Coordination Act report. Threatened and endangered species consultation will be accomplished with the USFWS and National Marine Fisheries Service (NMFS). The NMFS will be consulted on the effects of this proposed action on Essential Fish Habitat (EFH). The draft SEIS or a notice of availability will be distributed to all interested agencies, organizations, and individuals.

Estimated Date of Availability. The earliest that the draft SEIS is expected to be available is June 2007.

Michael B. Rogers,
Director of Programs.

[FR Doc. 05-20899 Filed 10-18-05; 8:45 am]

BILLING CODE 3710-PU-M